DEPARTMENT OF HOMELAND SECURITY

Coast Guard

33 CFR Part 117

[Docket No. USCG-2010-0912]

Drawbridge Operation Regulations; Duluth Ship Canal (Duluth-Superior Harbor).

AGENCY: Coast Guard, DHS.

ACTION: Notice of temporary deviation from regulations.

SUMMARY: Commander, Ninth Coast Guard District, has issued a temporary deviation from the regulation governing the operation of the Duluth Ship Canal Aerial Bridge at Mile 0.1 over the Duluth Ship Canal, at Duluth, MN, for scheduled maintenance. During this temporary deviation the bridge will be secured to masted navigation. Vessels that can pass under the bridge without an opening may do so at any time.

DATES: This deviation is effective from 6 a.m. on January 14, 2011 to 10 a.m. on March 14, 2011.

ADDRESSES: Documents mentioned in this preamble as being available in the docket are part of docket USCG-2010-0912 and are available online by going to http://www.regulations.gov, inserting USCG-2010-0912 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Lee D. Soule, Bridge Management Specialist, Ninth Coast Guard District; telephone 216-902-6085, e-mail; lee.d.soule@uscg.mil. If you have questions on viewing the docket, call Renee V. Wright, Program Manager, Docket Operations, telephone 202-366-9826.

SUPPLEMENTARY INFORMATION: The City of Duluth, MN, who owns and operates this drawbridge, has requested a temporary deviation from the current operating regulations set forth in 33 CFR 117.661. The purpose of this request is to facilitate structural maintenance of the bridge superstructure. The bridge is normally required to open if at least 24 hours advance notice is provided during the scheduled maintenance period. Vessels that can pass under the bridge without an opening may do so at any time. The bridge has a horizontal clearance of 300 feet and a vertical clearance of 15 feet in the closed position. Mariners that require passage between the harbor and Lake Superior with an air draft greater than 15 feet may use the Superior Entrance Channel, Superior, Wisconsin at any time. Impact to masted navigation is mitigated by the close proximity of an alternate route and the reduced navigational needs in the harbor during the winter. The most updated and detailed marine information for this event, and all bridge operations, is found in the Local Notice to Mariners and Broadcast Notice to Mariners issued by the Coast Guard. From 6 a.m. on January 14, 2011 to 10 a.m. on March 14, 2011 the bridge need not open for any vessel. In accordance with 33 CFR 117.35(e), the drawbridge must return to its regular operating schedule immediately at the end of the designated time period. This deviation from the operating regulations is authorized under 33 CFR 117.35.

Dated: September 28, 2010.
Scot M. Striffler,
Bridge Program Manager, Ninth Coast Guard District.

[FR Doc. 2010-25805 Filed 10-13-10; 8:45 am]

BILLING CODE 9110-04-P